DEPARTMENT OF LABOR

Bureau of Labor Statistics

Proposed Collection, Comment Request

ACTION: Notice.

SUMMARY: The Department of Labor, as part of its continuing effort to reduce paperwork and respondent burden, conducts a pre-clearance consultation program to provide the general public and Federal agencies with an opportunity to comment on proposed and/or continuing collections of information in accordance with the Paperwork Reduction Act of 1995 (PRA95) [44 U.S.C. 3506(c)(2)(A)]. This program helps to ensure that requested data can be provided in the desired format, reporting burden (time and financial resources) is minimized, collection instruments are clearly understood, and the impact of collection requirements on respondents can be properly assessed. The Bureau of Labor Statistics (BLS) is soliciting comments concerning the proposed reinstatement with change of the “Contingent Worker Supplement (CWS) to the Current Population Survey (CPS),” to be conducted in May 2017.

A copy of the proposed information collection request (ICR) can be obtained by contacting the individual listed below in the ADDRESSES section of this notice.

DATES: Written comments must be submitted to the office listed in the ADDRESSES section of this notice on or before November 29, 2016.

ADDRESSES: Send comments to Carol Rowan, BLS Clearance Officer, Division of Management Systems, Bureau of Labor Statistics, Room 4080, 2 Massachusetts Avenue NE., Washington, DC 20212. Written also may be transmitted by fax to 202-691-5111 (this is not a toll free number).

FOR FURTHER INFORMATION CONTACT: Carol Rowan, BLS Clearance Officer, 202-691-7628 (this is not a toll-free number). (See ADDRESSES section.)

SUPPLEMENTARY INFORMATION:

I. Background

The CPS has been the principal source of the official Government statistics on employment and unemployment since 1940 (over 75 years). Collection of labor force data through the CPS is necessary to meet the requirements in Title 29, United States Code, Sections 1 and 2. The 2017 CWS will provide information on the characteristics of workers in contingent jobs—that is, jobs that are structured to last only a limited period of time. The CWS will also provide information about workers in several alternative employment arrangements, including independent contractors, on-call workers, temporary help agency workers, and workers provided by contract companies. With the exception of February 2003, the CWS was fielded every two years from 1995 to 2005; however, since then, there have been no reliable and comparable statistics to show how the number and characteristics of these workers have changed over time. In order to maintain data comparability, the 2017 CWS questionnaire will be largely the same as that used in 2005. However, because new types of work have emerged since the last collection of the CWS, BLS is proposing to add four new questions to the end of the CWS. These new questions will explore whether individuals obtain customers or online tasks through companies that electronically match them, often through mobile apps, and examine whether work obtained through electronic matching platforms is a source of secondary earnings.

II. Current Action

Office of Management and Budget clearance is being sought for the Contingent Worker Supplement (CWS) to the CPS. A reinstatement with change of this previously approved collection for which approval has expired is needed to provide the Nation with timely information about the number and characteristics of workers in contingent or alternative employment arrangements. Because new types of work have emerged since the last fielding of the CWS, BLS is proposing to add four new questions. Specifically, two questions will focus on whether individuals obtain customers or online tasks through mobile apps. Such jobs include people using their own cars to drive customers from one place to another, delivering something, or doing customers' household tasks or errands, as well as online tasks such as data entry, translating text, web or software development, or graphic design. In addition, two questions will examine whether work obtained through electronic matching platforms is a source of secondary earnings.

III. Desired Focus of Comments

The Bureau of Labor Statistics is particularly interested in comments that:

• Evaluate whether the proposed collection of information is necessary for the proper performance of the functions of the agency, including whether the information will have practical utility.

• Evaluate the accuracy of the agency's estimate of the burden of the proposed collection of information, including the validity of the methodology and assumptions used.

• Enhance the quality, utility, and clarity of the information to be collected.

• Minimize the burden of the collection of information on those who are to respond, including through the use of appropriate automated, electronic, mechanical, or other technological collection techniques or other forms of information technology, e.g., permitting electronic submissions of responses.

Type of Review: Reinstatement, with change, of a previously approved collection for which approval has expired.

Agency: Bureau of Labor Statistics.

Title: Contingent Worker Supplement to the CPS.

OMB Number: 1220-0153.

Affected Public: Households.

Total Respondents: 47,000.

Frequency: One time.

Total Responses: 47,000.

Average Time per Response: 9 minutes.

Estimated Total Burden Hours: 7050 hours.

Total Burden Cost (capital/startup): $0.

Total Burden Cost (operating/maintenance): $0.

Comments submitted in response to this notice will be summarized and/or included in the request for Office of Management and Budget approval of the information collection request; they also will become a matter of public record.

Signed at Washington, DC, this 26th day of September, 2016.
Kimberley Hill,
Chief, Division of Management Systems, Bureau of Labor Statistics.

[FR Doc. 2016-23639 Filed 9-29-16; 8:45 am]

BILLING CODE 4510-24-P